DEPARTMENT OF LABOR

Office of the Secretary

Submission for OMB Emergency Review: Comment Request

February 24, 2009.

The Department of Labor has submitted the following information collection request (ICR), utilizing emergency review procedures, to the Office of Management and Budget (OMB) for review and clearance in accordance with the Paperwork Reduction Act of 1995 (Pub. L. 104-13, 44 U.S.C. Chapter 35) and 5 CFR 1320.13. OMB approval has been requested by March 10, 2009. A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), E-mail: OIRA_submission@omb.eop.gov. Comments and questions about the ICR listed below should be received 5 days prior to the requested OMB approval date.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Employment and Training Administration.

Title of Collection: Recovery Act—Applications for Unemployment Insurance Modernization Incentive Payments.

OMB Control Number: Pending.

Frequency of Collection: One time collection.

Affected Public: State Workforce Agencies.

Total Estimated Number of Respondents: 53.

Total Estimated Annual Burden Hours: 424.

Total Estimated Annual Costs Burden (other than hourly costs): $0.

Description: Section 2003(f) of the American Recovery and Reinvestment Act of 2009 (ARRA) provides for unemployment insurance (UI) “modernization incentive payments” to be made from the Unemployment Trust Fund (UTF) to the states. The total amount available for all states is $7 billion dollars. To obtain its share, the state must make an application to the Department of Labor demonstrating that its UI law contains certain benefit eligibility provisions. The last date on which an incentive distribution may be made is September 30, 2011. When applying for a share of the UI modernization incentive payments, a state must document that the provisions of its law meet the requirements for obtaining an incentive payment. The state is also required to describe how it intends to use any incentive payment to improve or strengthen its UI program.

Why are we requesting Emergency Processing? If DOL were to comply with standard PRA clearance procedures, it would not be able to comply with the ARRA-mandated payment schedule because procedures for these payments must be in place immediately. The statute provides that states need the means to access the funds as soon as possible. Otherwise, harm to the nation's economic recovery could ensue. Finally, in preparing the guidelines, the Department has taken all necessary steps to consult with state workforce agencies in order to minimize the burden of collecting the information while adhering to ARRA payment and monitoring provisions.

Darrin A. King,
Departmental Clearance Officer.

[FR Doc. E9-4279 Filed 2-27-09; 8:45 am]

BILLING CODE 4510-FW-P